DEPARTMENT OF COMMERCE

National Oceanic and Atmospheric Administration

RIN 0648-XG671

U.S. Stakeholder Meetings on Pacific Bluefin Tuna Long-Term Management Framework; Meeting Announcement

AGENCY: National Marine Fisheries Service (NMFS), National Oceanic and Atmospheric Administration (NOAA), Commerce.

ACTION: Notice of public meeting.

SUMMARY: NMFS is holding a meeting to discuss the future of the U.S. West Coast Pacific bluefin tuna fishery, including objectives and a management framework.

DATES: The meeting will be held January 9, 2019, from 9:00 a.m. to 4:00 p.m. PST, or until business concludes.

ADDRESSES: The meeting will be held concurrently in two locations: (1) In the Pacific Conference Room (Room 300) at NMFS, Southwest Fisheries Science Center, 8901 La Jolla Shores Drive, La Jolla, California 92037; and (2) Room 3400 at the Long Beach Federal Building, 501 W. Ocean Blvd., Long Beach, California 90802. Please notify Celia Barroso (see FOR FURTHER INFORMATION CONTACT) by December 27, 2018, if you plan to attend and whether you will be attending in person or remotely. The meetings will also be accessible by webinar. NMFS will email instructions and background materials for the webinar to meeting participants.

FOR FURTHER INFORMATION CONTACT: Celia Barroso, West Coast Region, NMFS, at Celia.Barroso@noaa.gov, or at (562) 432-1850.

SUPPLEMENTARY INFORMATION: Domestic and international stakeholders share interest in developing management objectives and a long-term management framework for Pacific bluefin tuna. In September 2018, the Pacific Fishery Management Council (PFMC) recommended that its Highly Migratory Species Management Team develop a long-term management strategy for Pacific bluefin tuna (See the PFMC's “September 2018 Summary Decision” at https://www.pcouncil.org/wp-content/uploads/2018/09/0918_Decision_Summary_DocumentV2.pdf). Additionally, the International Scientific Committee on Tuna and Tuna-like Species in the North Pacific Ocean (ISC) is considering whether to proceed with a management strategy evaluation (MSE) for Pacific bluefin tuna. The development of a domestic management strategy and objectives could apply to the ISC's MSE. During this stakeholder meeting, NMFS will briefly review the current status of the stock and current management regime, and then intends to solicit input from participants on potential management objectives and strategies to achieve those objectives for the Pacific bluefin tuna fishery.

Pacific Bluefin Tuna U.S. Stakeholder Meeting Topics

The Pacific bluefin tuna U.S. stakeholder meeting topics will include, but are not limited to, the following:

(1) An overview of international management Pacific bluefin tuna and management of the U.S. Pacific bluefin tuna fishery;

(2) Potential management objectives; and,

(3) Potential management strategies.

Special Accommodations

The meeting location is physically accessible to people with disabilities. Requests for sign language interpretation or other auxiliary aids should be directed to Celia Barroso (see FOR FURTHER INFORMATION CONTACT) by December 23, 2018.

Authority: 16 U.S.C. 951 et seq., 16 U.S.C. 1801 et seq., 16 U.S.C. 6901 et seq.

Dated: December 17, 2018.
Karen H. Abrams,
Acting Director, Office of Sustainable Fisheries, National Marine Fisheries Service.

[FR Doc. 2018-27645 Filed 12-20-18; 8:45 am]

BILLING CODE 3510-22-P